DEPARTMENT OF HOMELAND SECURITY

Coast Guard

33 CFR Parts 100, 117, 147, and 165

[USCG-2011-0399]

Quarterly Listings; Safety Zones, Security Zones, Special Local Regulations, Drawbridge Operation Regulations and Regulated Navigation Areas

AGENCY: Coast Guard, DHS.

ACTION: Notice of expired temporary rules issued.

SUMMARY: This document provides required notice of substantive rules issued by the Coast Guard and temporarily effective between February 2008 and October 2010, that expired before they could be published in the Federal Register. This document lists temporary safety zones, security zones, special local regulations, drawbridge operation regulations and regulated navigation areas, all of limited duration and for which timely publication in the Federal Register was not possible.

DATES: This document lists temporary Coast Guard rules between February 15, 2008 and October 10, 2010 that became effective and were terminated before they could be published in the Federal Register.

ADDRESSES: The Docket Management Facility maintains the public docket for this notice. Documents indicated in this notice will be available for inspection or copying at the Docket Management Facility (M-30), U.S. Department of Transportation, West Building ground floor, Room W12-140, 1200 New Jersey Avenue, SE., Washington, DC 20590 between 9 a.m. and 5 p.m., Monday through Friday, except federal holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events.

Regulated Navigation Areas are water areas within a defined boundary for which regulations for vessels navigating within the area have been established by the regional Coast Guard District Commander. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones, special local regulations, regulated navigation areas or drawbridge operation regulations by Coast Guard officials' on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between February 2008 and October 2010 unless otherwise indicated.

Dated: February 2, 2011.
K.A. Sinniger,
Chief, Office of Regulations and Administrative Law.

4th Quarter 2009 Listing
Docket No. | Location | Type | Effective date
CGD13-01-004 | Lake Washington, WA | Special Local Regulation and Safety Zones (Part 100 and 165) | 7/30/2009
CGD13-04-019 | Puget Sound, WA | Security Zones (Part 165) | 3/14/2010
CGD13-04-019 | Puget Sound, WA | Security Zones (Part 165) | 5/6/2009
CGD13-04-019 | Puget Sound, WA | Security Zones (Part 165) | 6/29/2009
CGD13-04-019 | Puget Sound, WA | Security Zones (Part 165) | 10/22/2009
CGD13-05-004 | Elliott Bay | Special Local Regulation and Safety Zones (Part 100.1306) | 5/9/2009
CGD13-08-018 | Umpqua River, OR | Safety Zones (Part 165) | 2/15/2008
USCG-2008-0142 | Tillamook Bay, OR | Safety Zones (Part 165) | 11/28/2008
USCG-2008-0143 | Tillamook Bay, OR | Safety Zones (Part 165) | 11/29/2008
USCG-2008-0314 | Detroit, MI | Safety Zones (Part 165) | 5/29/2008
USCG-2008-0534 | Point Lookout, NY | Safety Zones (Part 165) | 6/28/2008
USCG-2008-0538 | Seattle, WA | Security Zones (Part 165) | 7/29/2008
USCG-2008-0646 | Dauphin Island Bridge | Safety Zones (Part 165) | 11/9/2009
USCG-2008-0700 | Portland, OR | Safety Zones (Part 165) | 7/17/2008
USCG-2008-0798 | San Diego, CA | Safety Zones (Part 165) | 9/19/2008
USCG-2008-0814 | San Diego, CA | Safety Zones (Part 165) | 9/6/2008
USCG-2008-0827 | Ocean City, NJ | Safety Zones (Part 165) | 9/14/2009
USCG-2008-0874 | Cape Charles, VA | Safety Zones (Part 165) | 9/27/2008
USCG-2008-0925 | Lake Charles, LA | Safety Zones (Part 165) | 8/29/2008
USCG-2008-0943 | San Francisco, CA | Safety Zones (Part 165) | 9/25/2008
USCG-2008-0944 | Cathlamet, WA | Safety Zones (Part 165) | 9/6/2008
USCG-2008-0948 | Shark River Channel, NJ | Safety Zones (Part 165) | 10/3/2008
USCG-2008-0981 | Westport, WA | Safety Zones (Part 165) | 9/15/2008
USCG-2008-0983 | Harris County, TX | Safety Zones (Part 165) | 9/17/2008
USCG-2008-0993 | Biloxi, MS | Safety Zones (Part 165) | 11/9/2009
USCG-2008-0997 | New York, NY | Security Zones (Part 165) | 9/23/2008
USCG-2008-0998 | Puerto Rico | Safety Zones (Part 165) | 12/7/2008
USCG-2008-1063 | Lake Havasu, AZ | Safety Zones (Part 165) | 2/21/2009
USCG-2008-1068 | San Francisco Bay, CA | Safety Zones (Part 165) | 10/22/2008
USCG-2008-1071 | Lake Charles, LA | Safety Zones (Part 165) | 9/9/2008
USCG-2008-1073 | San Diego, CA | Safety Zones (Part 165) | 11/17/2008
USCG-2008-1074 | San Diego, CA | Safety Zones (Part 165) | 11/12/2008
USCG-2008-1087 | Charlotte Amalie, USVI | Safety Zones (Part 165) | 12/31/2008
USCG-2008-1093 | Miami, FL | Safety Zones (Part 165) | 11/21/2008
USCG-2008-1099 | Louisiana | Safety Zones (Part 165) | 11/5/2008
USCG-2008-1102 | San Diego, CA | Safety Zones (Part 165) | 12/21/2008
USCG-2008-1113 | Chicago, IL | Safety Zones (Part 165) | 11/4/2008
USCG-2008-1114 | San Diego, CA | Safety Zones (Part 165) | 12/11/2008
USCG-2008-1116 | San Diego, CA | Safety Zones (Part 165) | 12/13/2008
USCG-2008-1121 | Miami, FL | Safety Zones (Part 165) | 11/18/2008
USCG-2008-1131 | Vero Beach, FL | Safety Zones (Part 165) | 12/13/2008
USCG-2008-1134 | Louisiana | Safety Zones (Part 165) | 11/18/2008
USCG-2008-1146 | Sausalito, CA | Safety Zones (Part 165) | 12/13/2008
USCG-2008-1147 | Cameron, LA | Safety Zones (Part 165) | 11/19/2008
USCG-2008-1152 | San Francisco, CA | Safety Zones (Part 165) | 12/30/2008
USCG-2008-1154 | Milwaukee, WI | Safety Zones (Part 165) | 11/22/2008
USCG-2008-1156 | Lake Havasu Landing, CA | Safety Zones (Part 165) | 2/14/2009
USCG-2008-1162 | San Diego, CA | Safety Zones (Part 165) | 12/31/2008
USCG-2008-1164 | Baltimore, MD | Safety Zones (Part 165) | 12/2/2008
USCG-2008-1171 | Sacramento, CA | Safety Zones (Part 165) | 1/1/2009
USCG-2008-1178 | Hampton, NH | Drawbridge Operations Regulation (Part 117) | 12/16/2008
USCG-2008-1189 | M/V AL JABIRAH | Security Zones (Part 165) | 12/10/2008
USCG-2008-1200 | Washington Coast | Safety Zones (Part 165) | 12/12/2008
USCG-2008-1202 | Oregon Coast | Safety Zones (Part 165) | 12/25/2008
USCG-2008-1213 | San Francisco Bay, CA | Drawbridge Operations Regulation (Part 117) | 1/31/2009
USCG-2008-1214 | San Diego, CA | Safety Zones (Part 165) | 1/10/2009
USCG-2008-1228 | Chicago, IL | Safety Zones (Part 165) | 12/27/2008
USCG-2008-1242 | San Francisco Bay, CA | Security Zones (Part 165) | 12/29/2008
USCG-2008-1246 | Hood River, OR | Safety Zones (Part 165) | 7/9/2009
USCG-2008-1246 | Hood River, OR | Safety Zones (Part 165) | 7/10/2009
USCG-2008-1248 | Sault Ste. Marie, MI | Safety Zones (Part 165) | 12/31/2008
USCG-2008-1251 | Port Huron, MI | Safety Zones (Part 165) | 1/1/2009
USCG-2008-1265 | Baltimore, MD | Security Zones (Part 165) | 1/17/2009
USCG-2008-1267 | Wilmington, DE | Security Zones (Part 165) | 1/17/2009
USCG-2008-1270 | Ketchikan, AK | Safety Zones (Part 165) | 1/7/2009
USCG-2008-1272 | Massachusetts Bay, MA | Safety Zones (Part 165) | 1/8/2009
USCG-2009-0011 | Anne Arundel County, MD | Safety Zones (Part 165) | 1/17/2009
USCG-2009-0013 | Lake Washington, WA | Safety Zones (Part 165) | 8/8/2009
USCG-2009-0014 | Steilacoom, WA | Safety Zones (Part 165) | 10/9/2010
USCG-2009-0015 | Washington Coastal Bar, WA | Safety Zones (Part 165) | 11/6/2009
USCG-2009-0017 | Long Beach, CA | Drawbridge Operations Regulation (Part 117) | 1/27/2009
USCG-2009-0018 | Hampton, VA | Safety Zones (Part 165) | 4/24/2009
USCG-2009-0020 | San Francisco | Safety Zones (Part 165) | 2/2/2009
USCG-2009-0029 | San Diego, CA | Safety Zones (Part 165) | 2/2/2009
USCG-2009-0030 | Charles County, MD | Safety Zones (Part 165) | 4/1/2009
USCG-2009-0031 | Tillamook Bay, OR | Safety Zones (Part 165) | 11/5/2009
USCG-2009-0032 | Washington Coast, WA | Safety Zones (Part 165) | 11/6/2009
USCG-2009-0033 | Coquille River Bar, OR | Safety Zones (Part 165) | 11/6/2009
USCG-2009-0034 | Washington Coastal Bar, WA | Safety Zones (Part 165) | 11/7/2009
USCG-2009-0035 | Seattle, WA | Safety Zones (Part 165) | 11/10/2009
USCG-2009-0036 | Washington Coastal Bar, WA | Safety Zones (Part 165) | 11/18/2009
USCG-2009-0037 | Tillamook Bay, OR | Safety Zones (Part 165) | 11/16/2009
USCG-2009-0038 | Columbia River Bar, OR | Safety Zones (Part 165) | 11/16/2009
USCG-2009-0039 | Oregon Coast, OR | Safety Zones (Part 165) | 11/18/2009
USCG-2009-0040 | Seattle, WA | Safety Zones (Part 165) | 11/22/2009
USCG-2009-0041 | San Diego, CA | Security Zones (Part 165) | 1/27/2009
USCG-2009-0042 | Guam | Safety Zones (Part 165) | 1/22/2009
USCG-2009-0043 | Guam | Safety Zones (Part 165) | 1/27/2009
USCG-2009-0048 | Williamsburg, VA | Security Zones (Part 165) | 2/5/2009
USCG-2009-0049 | San Diego, CA | Safety Zones (Part 165) | 3/8/2009
USCG-2009-0052 | Miami, FL | Safety Zones (Part 165) | 2/4/2009
USCG-2009-0055 | Savannah, GA | Safety Zones (Part 165) | 2/23/2009
USCG-2009-0056 | Lower Mississippi River | Safety Zones (Part 165) | 1/28/2009
USCG-2009-0057 | Lower Mississippi River | Safety Zones (Part 165) | 12/14/2008
USCG-2009-0061 | Birmingham, MO | Safety Zones (Part 165) | 2/3/2009
USCG-2009-0062 | Savannah, GA | Safety Zones (Part 165) | 2/6/2009
USCG-2009-0067 | Lower Mississippi River | Safety Zones (Part 165) | 2/4/2009
USCG-2009-0068 | New London, CT | Drawbridge Operations Regulation (Part 117) | 3/3/2009
USCG-2009-0070 | Sabine, TX | Security Zones (Part 165) | 1/31/2010
USCG-2009-0072 | West Palm, FL | Safety Zones (Part 165) | 5/3/2009
USCG-2009-0079 | Chicago, IL | Safety Zones (Part 165) | 2/8/2009
USCG-2009-0085 | Chicago, IL | Security Zones (Part 165) | 2/13/2009
USCG-2009-0087 | Potomac River, VA | Security Zones (Part 165) | 2/23/2009
USCG-2009-0088 | Honolulu, HI | Safety Zones (Part 165) | 3/6/2009
USCG-2009-0095 | White River | Safety Zones (Part 165) | 12/22/2008
USCG-2009-0096 | Greenville, MS | Safety Zones (Part 165) | 1/5/2009
USCG-2009-0105 | Guam | Safety Zones (Part 165) | 3/17/2009
USCG-2009-0109 | San Diego, CA | Safety Zones (Part 165) | 3/6/2009
USCG-2009-0111 | Charleston, WV | Safety Zones (Part 165) | 4/25/2009
USCG-2009-0112 | Lake Havasu, AZ | Safety Zones (Part 165) | 4/25/2009
USCG-2009-0113 | Louisiana | Safety Zones (Part 165) | 3/9/2009
USCG-2009-0129 | Port Neches, TX | Safety Zones (Part 165) | 5/1/2009
USCG-2009-0131 | Sacramento, CA | Drawbridge Operations Regulation (Part 117) | 3/15/2009
USCG-2009-0133 | Natchez, MS | Safety Zones (Part 165) | 2/27/2009
USCG-2009-0134 | Jonesville, LA | Safety Zones (Part 165) | 7/15/2009
USCG-2009-0135 | Ouachita-Black River | Safety Zones (Part 165) | 3/9/2009
USCG-2009-0136 | Bayou Cassotte, MS | Safety Zones (Part 165) | 4/13/2009
USCG-2009-0137 | Biloxi, MS | Safety Zones (Part 165) | 4/4/2009
USCG-2009-0138 | Biloxi, MS | Safety Zones (Part 165) | 4/2/2009
USCG-2009-0140 | San Francisco, CA | Safety Zones (Part 165) | 3/5/2009
USCG-2009-0142 | Miami, FL | Security Zones (Part 165) | 3/6/2009
USCG-2009-0148 | Vicksburg, MS | Safety Zones (Part 165) | 4/18/2009
USCG-2009-0151 | Old Lyme, CT | Drawbridge Operations Regulation (Part 117) | 3/22/2009
USCG-2009-0153 | West Palm, FL | Security Zones (Part 165) | 3/8/2009
USCG-2009-0159 | American Samoa | Safety Zones (Part 165) | 5/1/2009
USCG-2009-0161 | San Francisco, CA | Safety Zones (Part 165) | 4/8/2009
USCG-2009-0163 | Nassau County, NY | Drawbridge Operations Regulation (Part 117) | 5/17/2009
USCG-2009-0164 | Louisville, KY | Safety Zones (Part 165) | 4/17/2009
USCG-2009-0165 | Lake Cumberland, KY | Safety Zones (Part 165) | 5/16/2009
USCG-2009-0167 | Louisville, KY | Safety Zones (Part 165) | 4/18/2009
USCG-2009-0170 | Charleston, SC | Safety Zones (Parts 147 and 165) | 6/29/2009
USCG-2009-0171 | Portsmouth, VA | Safety Zones (Part 165) | 8/13/2009
USCG-2009-0172 | Lower Chesapeake Bay | Safety Zones (Part 165) | 11/12/2009
USCG-2009-0173 | Port Zone, MD | Safety Zones (Part 165) | 11/12/2009
USCG-2009-0177 | West Memphis, AR | Safety Zones (Part 165) | 3/12/2009
USCG-2009-0189 | Norfolk, VA | Safety Zones (Part 165) | 5/16/2009
USCG-2009-0190 | Lower Mississippi River | Safety Zones (Part 165) | 11/11/2008
USCG-2009-0196 | Pensacola, Beach, FL | Safety Zones (Part 165) | 7/8/2009
USCG-2009-0197 | Sabine, TX | Security Zones (Part 165) | 3/25/2009
USCG-2009-0200 | Redwood, MS | Safety Zones (Part 165) | 5/19/2009
USCG-2009-0200 | Redwood, MS | Safety Zones (Part 165) | 6/30/2009
USCG-2009-0207 | Destin, FL | Safety Zones (Part 165) | 3/26/2009
USCG-2009-0208 | Panama City, FL | Safety Zones (Part 165) | 3/28/2009
USCG-2009-0209 | Biloxi, MS | Safety Zones (Part 165) | 3/29/2009
USCG-2009-0212 | San Francisco, CA | Safety Zones (Part 165) | 3/24/2009
USCG-2009-0213 | Biloxi, MS | Safety Zones (Part 165) | 3/20/2009
USCG-2009-0214 | Cameron, LA | Security Zones (Part 165) | 3/24/2009
USCG-2009-0215 | San Diego, CA | Safety Zones (Part 165) | 3/31/2009
USCG-2009-0216 | St Joseph, MI | Safety Zones (Part 165) | 3/17/2009
USCG-2009-0220 | Washington, DC | Safety Zones (Part 165) | 3/25/2009
USCG-2009-0221 | Sausalito, CA | Safety Zones (Part 165) | 3/28/2009
USCG-2009-0224 | Pomeroy, OH | Safety Zones (Part 165) | 4/21/2009
USCG-2009-0226 | Charlotte Amalie, USVI | Safety Zones (Part 165) | 4/26/2009
USCG-2009-0227 | Memphis, TN | Safety Zones (Part 100) | 7/31/2009
USCG-2009-0236 | San Francisco, CA | Special Local Regulation (Part 100) | 4/26/2009
USCG-2009-0237 | San Francisco, CA | Special Local Regulation (Part 100) | 4/26/2009
USCG-2009-0238 | Amesbury, MA | Safety Zones (Part 165) | 3/31/2009
USCG-2009-0241 | San Diego, CA | Safety Zones (Part 165) | 4/25/2009
USCG-2009-0243 | William Sound, AK | Safety Zones (Part 165) | 6/3/2009
USCG-2009-0245 | Dutch Harbor, AK | Safety Zones (Part 165) | 1/25/2010
USCG-2009-0248 | Miami Beach, FL | Safety Zones (Part 165) | 4/6/2009
USCG-2009-0253 | Lake Washington, WA | Safety Zones (Part 165) | 4/14/2009
USCG-2009-0254 | Red River, | Safety Zones (Part 165) | 4/2/2009
USCG-2009-0256 | Puget Sound, WA | Security Zones (Part 165) | 4/12/2009
USCG-2009-0258 | Stuart, FL | Safety Zones (Part 165) | 4/25/2009
USCG-2009-0261 | Offshore Sunny Isles, FL | Safety Zones (Part 165) | 6/11/2009
USCG-2009-0262 | Washington Harbor, DC | Safety Zones (Part 165) | 4/11/2009
USCG-2009-0264 | Fire Island, NY | Safety Zones (Part 165) | 4/5/2009
USCG-2009-0270 | San Diego, CA | Safety Zones (Part 165) | 5/1/2009
USCG-2009-0272 | Key West, FL | Safety Zones (Part 165) | 4/24/2009
USCG-2009-0282 | Santa Cruz Beach | Safety Zones (Part 165) | 6/13/2009
USCG-2009-0287 | Blue Island, IL | Safety Zones (Part 165) | 5/2/2009
USCG-2009-0289 | North Palm Beach, FL | Safety Zones (Part 165) | 5/2/2009
USCG-2009-0290 | Washington, DC | Safety Zones (Part 165) | 4/17/2009
USCG-2009-0291 | Nahant, MA | Safety Zones (Part 165) | 4/9/2009
USCG-2009-0294 | Sabine, TX | Safety Zones (Part 165) | 4/16/2009
USCG-2009-0295 | Cameron Parish, LA | Security Zones (Part 165) | 4/16/2009
USCG-2009-0297 | Hampton, NH | Drawbridge Operations Regulation (Part 117) | 5/12/2009
USCG-2009-0303 | Charleston, WV | Safety Zones (Part 165) | 6/5/2009
USCG-2009-0304 | Columbia River Bar, OR | Safety Zones (Part 165) | 4/21/2009
USCG-2009-0305 | Kachemak Bay, AK | Safety Zones (Part 165) | 4/29/2009
USCG-2009-0306 | Pittsburgh, PA | Safety Zones (Part 165) | 7/3/2009
USCG-2009-0307 | Port Everglades, FL | Security Zones (Part 165) | 4/27/2009
USCG-2009-0309 | Port Everglades, FL | Security Zones (Part 165) | 5/2/2009
USCG-2009-0312 | Lower Mississippi River | Safety Zones (Part 165) | 3/16/2009
USCG-2009-0320 | Counce, TN | Safety Zones (Part 165) | 7/3/2009
USCG-2009-0321 | Seattle, WA | Special Local Regulation (Part 100) | 5/2/2009
USCG-2009-0322 | Portland, OR | Safety Zones (Part 165) | 5/1/2009
USCG-2009-0323 | Romeoville, IL | Safety Zones (Part 165) | 4/29/2009
USCG-2009-0326 | San Francisco, CA | Safety Zones (Part 165) | 7/25/2009
USCG-2009-0334 | Hood Canal, WA | Safety Zones (Part 165) | 5/1/2009
USCG-2009-0336 | Pittsburgh, PA | Safety Zones (Part 165) | 5/16/2009
USCG-2009-0338 | Louisville, KY | Safety Zones (Part 165) | 4/26/2009
USCG-2009-0340 | Cincinnati, OH | Safety Zones (Part 165) | 7/25/2009
USCG-2009-0341 | Vicksburg, MS | Safety Zones (Part 165) | 7/4/2009
USCG-2009-0344 | Key West, FL | Safety Zones (Part 165) | 5/31/2009
USCG-2009-0346 | Sacramento, CA | Drawbridge Operations Regulation (Part 117) | 5/23/2009
USCG-2009-0352 | Cairo, IL | Safety Zones (Part 165) | 4/30/2009
USCG-2009-0353 | Greenville, MS | Safety Zones (Part 165) | 7/4/2009
USCG-2009-0355 | Quincy, MA | Safety Zones (Part 165) | 6/27/2009
USCG-2009-0358 | Puerto Rico | Safety Zones (Part 165) | 5/31/2009
USCG-2009-0360 | Cincinnati, OH | Safety Zones (Part 165) | 7/11/2009
USCG-2009-0363 | Leesville, LA | Safety Zones (Part 165) | 5/1/2009
USCG-2009-0364 | Amelia, LA | Safety Zones (Part 165) | 5/8/2009
USCG-2009-0366 | Virginia Beach, VA | Safety Zones (Part 165) | 5/31/2009
USCG-2009-0367 | Memphis, TN | Safety Zones (Part 165) | 5/23/2009
USCG-2009-0368 | South Lake Tahoe, CA | Safety Zones (Part 165) | 7/3/2009
USCG-2009-0369 | Tahoe City, CA | Safety Zones (Part 165) | 7/4/2009
USCG-2009-0371 | Portland, OR | Safety Zones (Part 165) | 5/22/2009
USCG-2009-0372 | Hempstead, NY | Drawbridge Operations Regulation (Part 117) | 5/23/2009
USCG-2009-0375 | Morgan City Port Allen | Safety Zones (Part 165) | 5/14/2009
USCG-2009-0380 | San Diego, CA | Safety Zones (Part 165) | 8/2/2009
USCG-2009-0381 | Atchafalaya Channel | Safety Zones (Part 165) | 5/10/2009
USCG-2009-0382 | Leesville, LA | Safety Zones (Part 165) | 5/5/2009
USCG-2009-0387 | Lake Tahoe, CA | Safety Zones (Part 165) | 7/3/2009
USCG-2009-0388 | Mandeville Island, CA | Safety Zones (Part 165) | 7/2/2009
USCG-2009-0389 | Leesville, LA | Safety Zones (Part 165) | 5/20/2009
USCG-2009-0390 | Vicksburg, MS | Safety Zones (Part 165) | 5/13/2009
USCG-2009-0395 | Bridgeport, CT | Special Local Regulation (Part 100) | 8/1/2009
USCG-2009-0397 | Hudson River, NY | Safety and Security Zones (Part 165) | 6/5/2009
USCG-2009-0402 | Ocean City, NJ | Safety Zones (Part 165) | 10/10/2009
USCG-2009-0403 | Redwood City, CA | Safety Zones (Part 165) | 7/4/2009
USCG-2009-0403 | El Granada, CA | Safety Zones (Part 165) | 7/4/2009
USCG-2009-0411 | New London, CT | Security Zones (Part 165) | 5/20/2009
USCG-2009-0427 | Pensacola Beach, FL | Safety Zones (Part 165) | 6/3/2009
USCG-2009-0428 | Lower Mississippi River | Safety Zones (Part 165) | 5/19/2009
USCG-2009-0429 | Bayou Casotte, MS | Safety Zones (Part 165) | 5/28/2009
USCG-2009-0435 | Port Detroit Zone | Safety Zones (Part 165) | 5/22/2009
USCG-2009-0438 | Pomeroy, OH | Safety Zones (Part 165) | 5/28/2009
USCG-2009-0441 | Port Arthur, TX | Safety Zones (Part 165) | 5/26/2009
USCG-2009-0442 | Perryville, MD | Safety Zones (Part 165) | 6/9/2009
USCG-2009-0445 | Portsmouth, OH | Safety Zones (Part 165) | 7/4/2009
USCG-2009-0451 | Hackberry, LA | Safety Zones (Part 165) | 5/28/2009
USCG-2009-0463 | San Francisco, CA | Safety Zones (Part 165) | 7/3/2009
USCG-2009-0467 | Upper Mississippi River | Safety Zones (Part 165) | 7/3/2009
USCG-2009-0468 | Upper Mississippi River | Safety Zones (Part 165) | 7/3/2009
USCG-2009-0470 | San Francisco, CA | Safety Zones (Part 165) | 6/8/2009
USCG-2009-0471 | Guam | Safety Zones (Part 165) | 6/2/2009
USCG-2009-0473 | Houghton, MI | Special Local Regulation (Part 100) | 6/21/2009
USCG-2009-0473 | Manitowoc, WI | Safety Zones (Part 165) | 6/7/2008
USCG-2009-0476 | Grosse Point Farms, MI | Safety Zones (Part 165) | 6/12/2009
USCG-2009-0480 | Pittsburg, CA | Safety Zones (Part 165) | 7/4/2009
USCG-2009-0481 | Martinez, CA | Safety Zones (Part 165) | 7/4/2009
USCG-2009-0482 | San Diego, CA | Security Zones (Part 165) | 6/23/2009
USCG-2009-0487 | Nashville, TN | Safety Zones (Part 165) | 8/22/2009
USCG-2009-0488 | Milwaukie, OR | Safety Zones (Part 165) | 6/13/2009
USCG-2009-0489 | Oregon Inlet, NC | Regulated Navigation Area (Part 165) | 6/5/2009
USCG-2009-0490 | Boston, MA | Regulated Navigation Area (Part 100) | 7/6/2009
USCG-2009-0492 | St Joseph, MI | Safety Zones (Part 165) | 6/20/2009
USCG-2009-0493 | Smithfield, VA | Safety Zones (Part 165) | 7/3/2009
USCG-2009-0495 | Allegheny River, PA | Safety Zones (Part 165) | 7/26/2009
USCG-2009-0499 | Sabine, TX | Security Zones (Part 165) | 6/8/2009
USCG-2009-0500 | Cameron Parish, LA | Security Zones (Part 165) | 6/8/2009
USCG-2009-0505 | Pomeroy, OH | Safety Zones (Part 165) | 6/17/2009
USCG-2009-0506 | Marietta, OH | Safety Zones (Part 165) | 7/11/2009
USCG-2009-0509 | Pomeroy, OH | Safety Zones (Part 165) | 6/16/2009
USCG-2009-0514 | San Diego, CA | Safety Zones (Part 165) | 7/16/2009
USCG-2009-0515 | Charleston, WV | Safety Zones (Part 165) | 7/31/2009
USCG-2009-0517 | Sabine, TX | Security Zones (Part 165) | 6/10/2009
USCG-2009-0518 | San Diego, CA | Safety Zones (Part 165) | 6/23/2009
USCG-2009-0525 | Potts Harbor | Safety Zones (Part 165) | 7/25/2009
USCG-2009-0528 | Burnham Park Harbor | Security Zones (Part 165) | 6/15/2009
USCG-2009-0530 | Gloucester, MA | Special Local Regulation (Parts 100 and 165) | 6/26/2009
USCG-2009-0531 | Haverhill, MA | Special Local Regulation (Part 100) | 8/22/2009
USCG-2009-0533 | Coos Bay, OR | Safety Zones (Part 165) | 7/4/2009
USCG-2009-0536 | Port Arthur, TX | Safety Zones (Part 165) | 6/15/2009
USCG-2009-0538 | Presque Isle Bay | Security Zones (Part 165) | 6/17/2009
USCG-2009-0539 | Polaris Point, GU | Safety Zones (Part 165) | 7/4/2009
USCG-2009-0540 | Kittery, ME | Drawbridge Operations Regulation (Part 117) | 7/3/2009
USCG-2009-0541 | Detroit, MI | Safety Zones (Part 165) | 6/25/2009
USCG-2009-0542 | Lake Champlain, VT | Safety Zones (Part 165) | 7/18/2009
USCG-2009-0543 | Grand Marais, MI | Safety Zones (Part 165) | 6/20/2009
USCG-2009-0545 | Oakland, CA | Safety Zones (Part 165) | 7/4/2009
USCG-2009-0550 | Houghton, MI | Safety Zones (Part 165) | 6/20/2009
USCG-2009-0551 | Lake Superior, WI | Safety Zones (Part 165) | 7/3/2009
USCG-2009-0554 | Bal Harbour, FL | Safety Zones (Part 165) | 7/4/2009
USCG-2009-0555 | Detroit, MI | Safety Zones (Part 165) | 6/24/2009
USCG-2009-0556 | Sault Ste. Marie, MI | Security Zones (Part 165) | 6/30/2009
USCG-2009-0563 | Bay City, MI | Safety Zones (Part 165) | 7/2/2009
USCG-2009-0564 | Great Lakes | Special Local Regulation (Part 100) | 6/26/2009
USCG-2009-0566 | Seattle, WA | Safety Zones (Part 165) | 7/29/2009
USCG-2009-0567 | Puget Sound, WA | Security Zones (Part 165) | 7/26/2009
USCG-2009-0569 | San Francisco, CA | Safety Zones (Part 165) | 7/13/2009
USCG-2009-0570 | Parkersburg, WV | Safety Zones (Part 165) | 6/21/2009
USCG-2009-0572 | Lake Tahoe, CA | Safety Zones (Part 165) | 7/4/2009
USCG-2009-0575 | Toledo, OH | Safety Zones (Part 165) | 7/4/2009
USCG-2009-0577 | Tacoma, WA | Safety Zones (Part 165) | 7/4/2009
USCG-2009-0583 | Huntington Bay, NY | Special Local Regulation (Part 100) | 7/13/2008
USCG-2009-0586 | Everglades, FL | Safety Zones (Part 165) | 6/28/2009
USCG-2009-0590 | Savannah, GA | Safety Zones (Part 165) | 7/4/2009
USCG-2009-0592 | Pensacola Beach, FL | Safety Zones (Part 165) | 7/10/2009
USCG-2009-0593 | Essington, PA | Safety Zones (Part 165) | 7/18/2009
USCG-2009-0598 | Kendall, NY | Safety Zones (Part 165) | 7/3/2009
USCG-2009-0599 | Lapointe, WI | Safety Zones (Part 165) | 7/4/2009
USCG-2009-0601 | Cameron Parish, LA | Security Zones (Part 165) | 6/28/2009
USCG-2009-0602 | Sabine, TX | Security Zones (Part 165) | 6/28/2009
USCG-2009-0603 | Cornucopia, WI | Safety Zones (Part 165) | 7/4/2009
USCG-2009-0604 | Ashland, WI | Safety Zones (Part 165) | 7/4/2009
USCG-2009-0605 | Duluth, MN | Safety Zones (Part 165) | 7/4/2009
USCG-2009-0606 | Natchez, MS | Safety Zones (Part 165) | 7/3/2009
USCG-2009-0609 | Sault Ste. Marie, MI | Safety Zones (Part 165) | 7/4/2009
USCG-2009-0610 | Munishing, MI | Safety Zones (Part 165) | 7/4/2009
USCG-2009-0611 | Marquette, MI | Safety Zones (Part 165) | 7/4/2009
USCG-2009-0612 | Cedarville, MI | Safety Zones (Part 165) | 7/4/2009
USCG-2009-0613 | Buffalo, NY | Safety Zones (Part 165) | 7/4/2009
USCG-2009-0614 | Bayfield, WI | Safety Zones (Part 165) | 7/4/2009
USCG-2009-0615 | St. Ignance, MI | Safety Zones (Part 165) | 7/4/2009
USCG-2009-0617 | Wymouth, MA | Safety Zones (Part 165) | 7/3/2009
USCG-2009-0620 | Rochester, NY | Safety Zones (Part 165) | 7/3/2009
USCG-2009-0621 | Olcott, NY | Safety Zones (Part 165) | 7/3/2009
USCG-2009-0622 | Avon Lake, OH | Safety Zones (Part 165) | 7/4/2009
USCG-2009-0623 | Cleveland, OH | Safety Zones (Part 165) | 7/4/2009
USCG-2009-0624 | Conneaut, OH | Safety Zones (Part 165) | 7/5/2009
USCG-2009-0625 | Fairport Harbor, OH | Safety Zones (Part 165) | 7/5/2009
USCG-2009-0626 | Youngstown, NY | Safety Zones (Part 165) | 7/3/2009
USCG-2009-0627 | Oswego, NY | Safety Zones (Part 165) | 7/5/2009
USCG-2009-0628 | Lorain, OH | Safety Zones (Part 165) | 7/16/2009
USCG-2009-0629 | Mentor, OH | Safety Zones (Part 165) | 7/3/2009
USCG-2009-0630 | Erie, PA | Safety Zones (Part 165) | 7/4/2009
USCG-2009-0634 | Paradise, MI | Safety Zones (Part 165) | 7/4/2009
USCG-2009-0636 | Sabine, TX | Security Zones (Part 165) | 7/14/2009
USCG-2009-0637 | Newport News, VA | Safety Zones (Part 165) | 7/2/2009
USCG-2009-0638 | Mackinac Island, MI | Safety Zones (Part 165) | 7/4/2009
USCG-2009-0640 | Brooklyn/Queens, NY | Drawbridge Operations Regulation (Part 117) | 8/1/2009
USCG-2009-0650 | Lorain, OH | Safety Zones (Part 165) | 7/16/2009
USCG-2009-0653 | Gary, IN | Safety Zones (Part 165) | 7/10/2009
USCG-2009-0655 | Milwaukie, WI | Safety Zones (Part 165) | 7/23/2009
USCG-2009-0656 | Sheffield Lake, OH | Safety Zones (Part 165) | 7/17/2009
USCG-2009-0657 | Sackets Harbor, NY | Safety Zones (Part 165) | 7/18/2009
USCG-2009-0660 | Chaumont, NY | Safety Zones (Part 165) | 7/25/2009
USCG-2009-0662 | Dorchester Bay, MA | Special Local Regulation (Part 100) | 8/8/2009
USCG-2009-0663 | Orange, TX | Safety Zones (Part 165) | 7/13/2009
USCG-2009-0665 | Milwaukee, WI | Safety Zones (Part 165) | 7/16/2009
USCG-2009-0668 | Nashville, TN | Safety Zones (Part 165) | 7/26/2009
USCG-2009-0673 | Romeoville, IL | Safety Zones (Part 165) | 7/17/2009
USCG-2009-0675 | Sacramento, CA | Safety Zones (Part 165) | 10/2/2009
USCG-2009-0678 | Maersk Jewel | Security Zones (Part 165) | 7/21/2009
USCG-2009-0678 | Maersk Jewel | Security Zones (Part 165) | 7/22/2009
USCG-2009-0682 | Ozarks | Safety Zones (Part 165) | 9/25/2009
USCG-2009-0690 | Cincinnati, OH | Safety Zones (Part 165) | 9/12/2009
USCG-2009-0691 | Cleveland, OH | Security Zones (Part 165) | 7/23/2009
USCG-2009-0694 | Lake Fireworks | Safety Zones (Part 165) | 9/6/2009
USCG-2009-0695 | Ohio River, PA | Safety Zones (Part 165) | 8/9/2009
USCG-2009-0696 | Monongahela River, PA | Safety Zones (Part 165) | 8/9/2009
USCG-2009-0697 | Harrison Township, MI | Safety Zones (Part 165) | 7/25/2009
USCG-2009-0698 | Chicago, IL | Safety Zones (Part 165) | 7/25/2009
USCG-2009-0707 | Massachusetts Bay, MA | Safety Zones (Part 165) | 7/25/2009
USCG-2009-0710 | Gilbertsville, KY | Safety Zones (Part 165) | 8/21/2009
USCG-2009-0711 | Patchogue, NY | Safety Zones (Part 165) | 8/22/2009
USCG-2009-0712 | Cleveland, OH | Safety Zones (Part 165) | 8/2/2009
USCG-2009-0713 | Biloxi, MS | Safety Zones (Part 165) | 8/14/2009
USCG-2009-0715 | Beaver River, PA | Safety Zones (Part 165) | 8/15/2009
USCG-2009-0716 | Modu Ralph Colfman | Safety Zones (Part 165) | 8/24/2009
USCG-2009-0719 | Upper Mississippi River | Safety Zones (Part 165) | 8/16/2009
USCG-2009-0720 | Ocean City, NJ | Safety Zones (Part 165) | 9/19/2009
USCG-2009-0721 | Harriman, TN | Safety Zones (Part 165) | 8/11/2009
USCG-2009-0721 | Harriman, TN | Safety Zones (Part 165) | 9/10/2009
USCG-2009-0725 | Chesapeake Bay, VA | Safety Zones (Part 165) | 9/26/2009
USCG-2009-0726 | Newburyport, MA | Safety Zones (Part 165) | 8/1/2009
USCG-2009-0727 | Portland, OR | Safety Zones (Part 165) | 8/5/2009
USCG-2009-0728 | Oregon City, OR | Safety Zones (Part 165) | 8/9/2009
USCG-2009-0730 | Ouachita River | Safety Zones (Part 165) | 10/9/2009
USCG-2009-0731 | Evansville, IN | Safety Zones (Part 165) | 8/22/2009
USCG-2009-0732 | Louisville, KY | Safety Zones (Part 165) | 8/28/2009
USCG-2009-0733 | San Diego, CA | Safety Zones (Part 165) | 8/16/2009
USCG-2009-0734 | Pittsburgh, PA | Security Zones (Part 165) | 9/24/2009
USCG-2009-0738 | Silverdale, DC | Safety Zones (Part 165) | 8/14/09
USCG-2009-0740 | Bay City, MI | Safety Zones (Part 165) | 8/8/2009
USCG-2009-0741 | Michigan City, IN | Safety Zones (Part 165) | 8/9/2009
USCG-2009-0742 | Port Huron, MI | Safety Zones (Part 165) | 8/16/2009
USCG-2009-0743 | Upper Mississippi River | Safety Zones (Part 165) | 10/4/2009
USCG-2009-0750 | Pt Pleasant, WV | Safety Zones (Part 165) | 9/5/2009
USCG-2009-0758 | Sabine, TX | Security Zones (Part 165) | 8/10/2009
USCG-2009-0762 | High Island, TX | Safety Zones (Part 165) | 8/10/2009
USCG-2009-0763 | Glen Cove, NY | Safety Zones (Part 165) | 8/15/2009
USCG-2009-0766 | Romeoville, IL | Regulated Navigation Area and Safety Zone (Part 165) | 8/17/2009
USCG-2009-0770 | M/V Sylvie | Security Zones (Part 165) | 8/23/2009
USCG-2009-0771 | Seattle, WA | Security Zones (Part 165) | 8/23/2009
USCG-2009-0773 | Sabine, TX | Security Zones (Part 165) | 8/18/2009
USCG-2009-0774 | Cameron, Parish, LA | Security Zones (Part 165) | 8/18/2009
USCG-2009-0775 | East Isleton, CA | Drawbridge Operations Regulation (Part 117) | 9/15/2009
USCG-2009-0776 | Rio Vista, CA | Drawbridge Operations Regulation (Part 117) | 9/15/2009
USCG-2009-0778 | Treasure Island, CA | Safety Zones (Part 165) | 8/19/2009
USCG-2009-0779 | Chicago, IL | Safety Zones (Part 165) | 8/21/2010
USCG-2009-0783 | Superior, WI | Safety Zones (Part 165) | 8/22/2009
USCG-2009-0784 | Cleveland, OH | Safety Zones (Part 165) | 9/2/2009
USCG-2009-0786 | Sandusky, OH | Safety Zones (Part 165) | 8/22/2009
USCG-2009-0793 | Sabine, TX | Security Zones (Part 165) | 8/22/2009
USCG-2009-0798 | Wises Landing, KY | Safety Zones (Part 165) | 9/8/2009
USCG-2009-0799 | Augusta, GA | Safety Zones (Part 165) | 9/27/2009
USCG-2009-0802 | Pittsburgh, PA | Safety Zones (Part 165) | 9/10/2009
USCG-2009-0806 | San Diego, CA | Safety Zones (Part 165) | 9/12/2009
USCG-2009-0807 | Arlington Fairfax Counties, VA | Security Zones (Part 165) | 8/29/2009
USCG-2009-0808 | Harbor, MD | Safety Zones (Part 165) | 9/6/2009
USCG-2009-0813 | Boston, MA | Security Zones (Part 165) | 8/28/2009
USCG-2009-0819 | Cleveland, OH | Safety Zones (Part 165) | 9/5/2009
USCG-2009-0821 | Lower Mississippi River | Safety Zones (Parts 100) | 10/10/2009
USCG-2009-0825 | Mackinac City, MI | Security Zones (Part 165) | 9/7/2009
USCG-2009-0830 | Cincinnati, OH | Security Zones (Part 165) | 9/7/2009
USCG-2009-0831 | Port San Juan | Safety Zones (Part 165) | 9/2/2009
USCG-2009-0833 | Pittsburgh, PA | Security Zones (Part 165) | 9/15/2009
USCG-2009-0834 | Pittsburgh, PA | Security Zones (Part 165) | 9/7/2009
USCG-2009-0835 | Charleston, WV | Safety Zones (Part 165) | 10/3/2009
USCG-2009-0836 | Biloxi, MS | Safety Zones (Part 165) | 10/2/2009
USCG-2009-0846 | Rio Vista, CA | Safety Zones (Part 165) | 10/10/2009
USCG-2009-0850 | Romeoville, IL | Safety Zones (Part 165) | 9/9/2009
USCG-2009-0853 | San Francisco, CA | Safety Zones (Part 165) | 9/17/2009
USCG-2009-0862 | Superior, WI | Special Local Regulation (Part 100) | 9/19/2009
USCG-2009-0866 | Guam | Safety Zones (Part 165) | 9/17/2009
USCG-2009-0867 | Guam | Safety Zones (Part 165) | 9/21/2009
USCG-2009-0868 | Guam | Safety Zones (Part 165) | 10/7/2009
USCG-2009-0873 | Port Valdez, AK | Safety Zones (Part 165) | 9/19/2009
USCG-2009-0875 | Miami Beach, FL | Security Zones (Part 165) | 10/26/2009
USCG-2009-0879 | Cleveland, OH | Special Local Regulation (Part 100) | 9/19/2009
USCG-2009-0880 | Puget Sound, WA | Safety Zones (Part 165) | 9/23/2009
USCG-2009-0885 | West Sister Island, OH | Safety Zones (Part 165) | 9/18/2009
USCG-2009-0886 | Lower Mississippi River | Safety Zones (Part 165) | 9/18/2009
USCG-2009-0892 | Stamford, CT | Security Zones (Part 165) | 10/23/2009
USCG-2009-0893 | Sacramento, CA | Drawbridge Operations Regulation (Part 117) | 10/24/2009
USCG-2009-0894 | Mackinac Island, MI | Safety Zones (Part 165) | 9/25/2009
USCG-2009-0901 | Lake Havasu, AZ | Safety Zones (Part 165) | 10/24/2009
USCG-2009-0904 | Orange, TX | Safety Zones (Part 165) | 9/28/2009
USCG-2009-0905 | Pittsburgh, PA | Safety Zones (Part 165) | 10/3/2009
USCG-2009-0912 | Portland, OR | Safety Zones (Part 165) | 10/7/2009
USCG-2009-0919 | Morgantown, WV | Safety Zones (Part 165) | 10/10/2009
USCG-2009-0922 | San Diego, CA | Safety Zones (Part 165) | 10/18/2009
USCG-2009-0923 | Lower Mississippi River | Safety Zones (Part 165) | 10/4/2009
USCG-2009-0924 | Kodiak Island, AK | Safety Zones (Part 165) | 10/16/2009
USCG-2009-0927 | San Juan, PR | Safety Zones (Part 165) | 10/23/2009
USCG-2009-0928 | Knik Arm, AK | Security Zones (Part 165) | 10/20/2009
USCG-2009-0930 | San Diego, CA | Safety Zones (Part 165) | 10/25/2009
USCG-2009-0932 | San Diego, CA | Safety Zones (Part 165) | 10/24/2009
USCG-2009-0933 | Port Arthur, TX | Safety Zones (Part 165) | 11/16/2009
USCG-2009-0938 | Cleveland, OH | Security Zones (Part 165) | 10/26/2009
USCG-2009-0939 | Pittsburgh, PA | Safety Zones (Part 165) | 11/20/2009
USCG-2009-0941 | San Diego, CA | Safety Zones (Part 165) | 10/23/2009
USCG-2009-0943 | Pittsburgh, PA | Security Zones (Part 165) | 10/19/2009
USCG-2009-0944 | Fairfax County, VA | Safety Zones (Part 165) | 10/24/2009
USCG-2009-0945 | Port Neches, TX | Safety Zones (Part 165) | 10/15/2009
USCG-2009-0953 | Big Sandy River | Safety Zones (Part 165) | 10/24/2009
USCG-2009-0954 | Chicago, IL | Safety Zones (Part 165) | 10/26/2009
USCG-2009-0958 | Ambrosia, WV | Safety Zones (Part 165) | 11/14/2009
USCG-2009-0962 | Miami, FL | Security Zones (Part 165) | 10/29/2009
USCG-2009-0964 | San Francisco | Safety Zones (Part 165) | 12/12/2009
USCG-2009-0971 | Wrightsville Beach, NC | Special Local Regulation (Part 100) | 11/7/2009
USCG-2009-0977 | Oak Island, NC | Safety Zones (Part 165) | 11/16/2009
USCG-2009-0980 | Cameron Parish, LA | Security Zones (Part 165) | 11/4/2009
USCG-2009-0981 | Sabine, TX | Security Zones (Part 165) | 11/4/2009
USCG-2009-0987 | Orange Beach, AL | Safety Zones (Part 165) | 11/7/2009
USCG-2009-0991 | San Francisco, CA | Safety Zones (Part 165) | 12/31/2009
USCG-2009-1002 | Waterway, TX | Security Zones (Part 165) | 11/10/2009
USCG-2009-1005 | Oregon Coast, OR | Safety Zones (Part 165) | 11/22/2009
USCG-2009-1007 | Quillayute River | Safety Zones (Part 165) | 2/27/2009
USCG-2009-1007 | Quillayute River | Safety Zones (Part 165) | 3/1/2020
USCG-2009-1008 | Seattle, WA | Safety Zones (Part 165) | 4/22/2010
USCG-2009-1010 | Waterway, TX | Security Zones (Part 165) | 11/11/2009
USCG-2009-1012 | San Diego, CA | Safety Zones (Part 165) | 12/4/2009
USCG-2009-1015 | Sabine-Neches Canal, TX | Safety Zones (Part 165) | 11/13/2009
USCG-2009-1016 | Ouachita River | Safety Zones (Part 165) | 11/13/2009
USCG-2009-1018 | Sabine-Neches Canal | Safety Zones (Part 165) | 11/16/2009
USCG-2009-1019 | Matagorda Island, TX | Safety Zones (Part 165) | 11/17/2009
USCG-2009-1032 | Smithland, KY | Safety Zones (Part 165) | 11/30/2009
USCG-2009-1040 | Lower Chesapeake Bay, VA | Safety Zones (Part 165) | 11/13/2009
USCG-2009-1041 | St. Thomas, USVI | Safety Zones (Part 165) | 12/8/2009
USCG-2009-1042 | Baton Rouge, LA | Safety Zones (Part 165) | 12/4/2009
USCG-2009-1043 | South Padre Island, TX | Safety Zones (Part 165) | 12/13/2009
USCG-2009-1044 | Sacramento, CA | Safety Zones (Part 165) | 1/1/2010
USCG-2009-1048 | Niagara River, NY | Safety Zones (Part 165) | 11/30/2009
USCG-2009-1054 | Hackberry, LA | Security Zones (Part 165) | 12/1/2009
USCG-2009-1055 | Louisiana | Security Zones (Part 165) | 11/27/2009
USCG-2009-1062 | Chicago, IL | Safety Zones (Part 165) | 12/4/2009
USCG-2009-1063 | St. Joseph, MI | Safety Zones (Part 165) | 12/1/2009
USCG-2009-1077 | Waterway, TX | Security Zones (Part 165) | 12/10/2009
USCG-2009-1082 | Oahu, HI | Security Zones (Part 165) | 12/23/2009
USCG-2009-1092 | Sabine-Neches Canal | Safety Zones (Part 165) | 12/17/2009
USCG-2009-1103 | Cameron Parish, LA | Security Zones (Part 165) | 12/19/2009
USCG-2009-1104 | West Palm Beach, FL | Safety Zones (Part 165) | 1/1/2010
USCG-2009-1114 | Oahu, HI | Security Zones (Part 165) | 12/30/2009
USCG-2009-1115 | M/V Sylvie | Security Zones (Part 165) | 12/26/2009
USCG-2009-1115 | M/V Sylvie | Security Zones (Part 165) | 12/29/2009
USCG-2009-1121 | Sabine, TX | Security Zones (Part 165) | 1/1/2010
USCG-2009-1122 | Cameron Parish, LA | Security Zones (Part 165) | 1/1/2010
USCG-2009-1126 | Sabine, TX | Safety Zones (Part 165) | 1/3/2010
USCG-2009-1127 | Mobile, AL | Safety Zones (Part 165) | 1/15/2010
USCG-2009-1128 | Mobile, AL | Security Zones (Part 165) | 1/16/2010

[FR Doc. 2011-2835 Filed 2-8-11; 8:45 am]

BILLING CODE 9110-04-P